DEPARTMENT OF COMMERCE

Foreign-Trade Zones Board

[Docket 8-2001]

Foreign-Trade Zone 122—Corpus Christi, TX Application for Subzone Status International Resistive Company Plant (Resistors), Corpus Christi, Texas

An application has been submitted to the Foreign-Trade Zones Board (the Board) by the Port of Corpus Christi Authority, grantee of FTZ 122, requesting special-purpose subzone status for the electronic resistor manufacturing plant of International Resistive Company (IRC) (a subsidiary of TT Group PLC, of the United Kingdom), located in Corpus Christi, Texas. The application was submitted pursuant to the provisions of the Foreign-Trade Zones Act, as amended (19 U.S.C. 81a-81u), and the regulations of the Board (15 CFR Part 400). It was formally filed on February 6, 2001.

The IRC plant (8 acres/129,000 sq. ft./320 employees) is located 4222 South Staples Street, Corpus Christi, Texas. The facility is used to produce electronic resistors (HTSUS# 8533.29.0000, 8533.40.8000) for export and the domestic market. The production process involves design, assembly, testing, and warehousing. Components purchased from abroad (representing 50 to 65% of overall value) include: silicone adhesive, resistor leads, and copper conductors (duty rate range: 1-10%).

FTZ procedures would exempt IRC from Customs duty payments on the foreign components used in export production (1% of shipments). On its domestic sales, the company would be able to choose the duty rate that applies to finished resistors (duty free) for the foreign inputs noted above. No local inventory tax exemption is included as a proposed benefit. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is April 16, 2001. Rebuttal comments in response to material submitted during the foregoing period may be submitted during the subsequent 15-day period (to April 30, 2001).

A copy of the application and the accompanying exhibits will be available for public inspection at each of the following locations:

Office of the Port Director, U.S. Customs Service-Corpus Christi, Room 305, 400 Mann Street, Corpus Christi, TX 78401.

Office of the Executive Secretary, Foreign-Trade Zones Board, U.S. Department of Commerce, Room 4008, 14th Street & Constitution Avenue, NW, Washington, DC 20230-0002.

Dated: February 6, 2001.
Dennis Puccinelli,
Executive Secretary.

[FR Doc. 01-3640 Filed 2-12-01; 8:45 am]

BILLING CODE 3510-DS-P